DEPARTMENT OF COMMERCE

International Trade Administration

[C-580-851]

Dynamic Random Access Memory Semiconductors From the Republic of Korea: Extension of Time Limit for Final Results of the Countervailing Duty Administrative Review

AGENCY: Import Administration, International Trade Administration, Department of Commerce.

DATES: Effective Date: November 28, 2008.

FOR FURTHER INFORMATION CONTACT: Shane Subler at (202) 482-0189 or David Neubacher at (202) 482-5823; AD/CVD Operations, Office 1, Import Administration, International Trade Administration, U.S. Department of Commerce, 14th Street and Constitution Avenue, NW., Washington, DC 20230.

SUPPLEMENTARY INFORMATION:

Background

On August 13, 2008, the Department of Commerce (“Department”) published the notice of preliminary results of the administrative review of the countervailing duty order on dynamic random access memory semiconductors from the Republic of Korea, covering the period January 1, 2006 through December 31, 2006. See Dynamic Random Access Memory Semiconductors from the Republic of Korea: Preliminary Results of Countervailing Duty Administrative Review, 73 FR 47131 (August 13, 2008). On September 23, 2008, the petitioner, Micron Technology, Inc. (“Micron”), filed a case brief. On September 29, 2008, the respondent, Hynix Semiconductor Inc., filed a rebuttal brief.

Statutory Time Limits

Section 751(a)(3)(A) of the Tariff Act of 1930, as amended (“the Act”), requires the Department to issue the final results of an administrative review within 120 days after the date on which the preliminary results are published. If it is not practicable to complete the review within the time period, section 751(a)(3)(A) of the Act allows the Department to extend this deadline to a maximum of 180 days.

Extension of Time Limit for Final Results

In its case brief, Micron requested that the Department take further steps to address the alleged circumvention of the countervailing duty order. The Department needs additional time to consider Micron's request and to act on this request if warranted. As a result, it is not practicable to complete this review within the originally anticipated time limit (i.e., by December 11, 2008). Therefore, the Department is extending the time limit for completion of the final results by 60 days to not later than February 9, 2009, in accordance with section 751(a)(3)(A) of the Act.

We are issuing and publishing this notice in accordance with sections 751(a)(1) and 777(i)(1) of the Act.

Dated: November 20, 2008.
Stephen J. Claeys,
Deputy Assistant Secretary for Antidumping and Countervailing Duty Operations.

[FR Doc. E8-28317 Filed 11-26-08; 8:45 am]

BILLING CODE 3510-DS-P